DEPARTMENT OF ENERGY

Office of Energy Efficiency and Renewable Energy

[Docket No. EERE-2011-BT-BC-0046]

Building Energy Codes Cost Analysis

Correction

In notice document 2011-23236 beginning on page 56413 in the issue of Tuesday, September 13, 2011 make the following correction:

On page 56422 the heading “Table 1. Cash flow components” should read “Table 7. Cash flow components”.

[FR Doc. C1-2011-23236 Filed 9-16-11; 8:45 am]

BILLING CODE 1505-01-P